SMALL BUSINESS ADMINISTRATION

Small Business Size Standards: Termination of Nonmanufacturer Rule Class Waiver

AGENCY: U.S. Small Business Administration.

ACTION: Notice.

SUMMARY: The U.S. Small Business Administration (SBA) is terminating a waiver of the Nonmanufacturer Rule for radio telephones based on SBA's recent discovery of a small business manufacturer. Terminating this waiver will require recipients of contracts set aside for small businesses, service-disabled veteran-owned small businesses, or Participants in SBA's 8(a) Business Development (BD) Program to provide the products of small business manufacturers or processors on such contracts.

DATES: This action is effective within 15 days after date of publication in the Federal Register.

FOR FURTHER INFORMATION CONTACT: Ms. Edith G. Butler, by telephone at (202) 619-0422; by FAX at (202) 481-1788; or by e-mail at edith.butler@sba.gov.

SUPPLEMENTARY INFORMATION: Section 8(a)(17) of the Small Business Act (Act), and 15 U.S.C. 637(a)(17), and SBA's implementing regulations require that recipients of Federal contracts set aside for small businesses, service-disabled veteran-owned small businesses, or Participants in the SBA's 8(a) BD Program provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months.

The SBA defines “class of products” based on the NAICS. In addition, SBA uses PSCs to identify particular products within the NAICS code to which a waiver would apply.

SBA announced its decision to grant a Nonmanufacturer Rule class waiver for radio telephones in the Federal Register on July 20, 1998, 63 FR 38742. Radio telephones are identified in NAICS code 334220 and PSC 5805.

The SBA received a request on July 13, 2009 to terminate the Nonmanufacturer Rule class waiver previously granted based on the existence of a small business manufacturer for this item. SBA issued a Federal Register notice of its intent to terminate the class waiver on August 4, 2009, 74 FR 38675. In response to this notice, SBA did not receive nor did SBA discover additional small business manufacturers.

Therefore, SBA is terminating the Nonmanufacturer Rule class waiver previously granted for radio telephones, identified under PSC 5805, and NAICS code 334220.

Dated: September 15, 2009.
Dean Koppel,
Acting Director, Office of Government Contracting.

[FR Doc. E9-22628 Filed 9-18-09; 8:45 am]

BILLING CODE 8025-01-P